OFFICE OF GOVERNMENT ETHICS

Updated OGE Senior Executive Service Performance Review Board

AGENCY: Office of Government Ethics (OGE).

ACTION: Notice.

SUMMARY: Notice is hereby given of the appointment of a member to the OGE Senior Executive Service (SES) Performance Review Board.

DATES: The notification in this document is effective July 6, 2023.

FOR FURTHER INFORMATION CONTACT: Shelley K. Finlayson, Chief of Staff and Program Counsel, Office of Government Ethics, Suite 500, 1201 New York Avenue NW, Washington, DC 20005-3917; Telephone: 202-482-9300; TYY: 800-877-8339; FAX: 202-482-9237.

SUPPLEMENTARY INFORMATION: The rule at 5 U.S.C. 4314(c) requires each agency to establish, in accordance with regulations prescribed by the Office of Personnel Management at 5 CFR part 430, subpart C, and § 430.310 thereof in particular, one or more Senior Executive Service performance review boards. As a small executive branch agency, OGE has just one board. In order to ensure an adequate level of staffing and to avoid a constant series of recusals, the designated members of OGE's SES Performance Review Board are being drawn, as in the past, in large measure from the ranks of other executive branch agencies. The board shall review and evaluate the initial appraisal of each OGE senior executive's performance by his or her supervisor, along with any recommendations in each instance to the appointing authority relative to the performance of the senior executive. This notice updates the membership of OGE's SES Performance Review Board as it was most recently published at 86 FR 53303 (September 27, 2021).

Due to the departure of Kathleen Silbaugh, the following official has been appointed to the SES Performance Review Board of the Office of Government Ethics: Elizabeth Fischmann, Designated Agency Ethics Official, National Credit Union Administration. The remaining Board members are Shelley K. Finlayson (Chair), Chief of Staff and Program Counsel, Office of Government Ethics; Sean Dent, Senior Deputy General Counsel, Federal Housing Finance Agency, and Peter J. Constantine, Associate Solicitor for Legal Counsel, Office of the Solicitor, Department of Labor.

Approved: June 29, 2023.
Emory A. Rounds, III,
Director, U.S. Office of Government Ethics.

[FR Doc. 2023-14245 Filed 6-30-23; 11:15 am]

BILLING CODE 6345-03-P